DEPARTMENT OF THE INTERIOR

National Park Service

[NPS-WASO-NAGPRA-NPS0039143; PPWOCRADN0-PCU00RP14.R50000]

Notice of Intended Repatriation: William S. Webb Museum of Anthropology, University of Kentucky, Lexington, KY

AGENCY: National Park Service, Interior.

ACTION: Notice.

SUMMARY: In accordance with the Native American Graves Protection and Repatriation Act (NAGPRA), the William S. Webb Museum of Anthropology, University of Kentucky (WSWM) intends to repatriate certain cultural items that meet the definition of unassociated funerary objects and that have a cultural affiliation with the Indian Tribes or Native Hawaiian organizations in this notice.

DATES: Repatriation of the cultural items in this notice may occur on or after January 6, 2025.

ADDRESSES: Celise Chilcote-Fricker, William S. Webb Museum of Anthropology, University of Kentucky, 1020 Export Street, Lexington, KY 40504, telephone (859) 257-5124, email celise.fricker@uky.edu.

SUPPLEMENTARY INFORMATION: This notice is published as part of the National Park Service's administrative responsibilities under NAGPRA. The determinations in this notice are the sole responsibility of the WSWM, and additional information on the determinations in this notice, including the results of consultation, can be found in the summary or related records. The National Park Service is not responsible for the determinations in this notice.

Abstract of Information Available

A total of 37 cultural items have been requested for repatriation. The 37 unassociated funerary objects are charcoal, faunal, floatation, lithics, shell, ceramics and a dog burial. Site 15BE06 (Petersburg) in Boone County, KY was excavated as part of a cultural resource management project by K&V CRM and the Kentucky Archaeological Survey in 2013. A Fort Ancient determination for these human remains is based on the presence of shell-tempered ceramics and contact-period burial associations. No known hazardous substances are present.

A total of eight cultural items have been requested for repatriation. The eight unassociated funerary objects are botanics, faunal, ceramics, lithics, and burned clay. Site 15BB13 (Larkin) in Bourbon County, KY was excavated by Kentucky Heritage Council staff in 1986. A Fort Ancient determination is based on the presence of ceramic vessel shapes (salt pans, colanders, globular jars) and `weeping eye' shell mask gorgets characteristic of Late Fort Ancient culture in the Central Bluegrass region. No known hazardous substances are present.

A total of 13 cultural items have been requested for repatriation. The 13 unassociated funerary objects are a stone celt, shell pendants, dogs and ceramics. Site 15GP22 (Hardin Village) in Greenup County, KY was excavated in 1939 by the University of Kentucky Museum of Anthropology under contract to the Works Progress Administration (WPA). A Fort Ancient determination for these human remains is based on the presence of diagnostic shell/limestone-tempered ceramics, and projectile points, wall-trench houses, and shell gorgets. No known hazardous substances are present.

A total of 10 cultural items have been requested for repatriation. The 10 unassociated funerary objects are ceramics, charcoal, faunal, lithics, shell, a bear tooth pendant, bone beads and a worked bone. Site 15HR22 (Florence) in Harrison County, KY was excavated between 1989 and 1990 by the Kentucky Archaeology Survey and Kentucky Heritage Council. A Fort Ancient determination for these human remains is based on diagnostic ceramic types, triangular projectile points, and C14 dates. No known hazardous substances are present.

A total of seven cultural items have been requested for repatriation. The seven unassociated funerary objects are ceramics, faunal, lithics, and a cannel coal pendant. Site 15JO14 (Mayo) in Johnson County, KY was excavated in 1939 by the University of Kentucky Museum of Anthropology under contract to the Works Progress Administration. A Fort Ancient determination for these human remains is based on the presence of shell-tempered ceramics, overall site plan, and rectangular single-set-post houses. No known hazardous substances are present.

A total of 31 cultural items have been requested for repatriation. The 31 unassociated funerary objects are bone awls, engraved bear tooth pendants, a shark tooth, a lithic tool, shell beads, shell gorgets, shell pendants, and ceramics. Site 15MS01 (Fox Farm/Fox Field) in Mason County, KY was first surveyed, surface collected and excavated by E.S. Maxwell and William S. Webb between 1920 and 1930 and donated to the University of Kentucky Museum of Anthropology. An additional donation to the WSWM was made by a private collector in 1991. A Fort Ancient determination for these human remains is based on diagnostic ceramic types, triangular projectile points, and marine shell gorgets. No known hazardous substances are present.

A total of 22 cultural items have been requested for repatriation. The 22 unassociated funerary objects are ash, ceramic, charcoal, faunal, lithics, shell, a biface, ceramic pipe, clay bead, gun flint, lithic cores, microdrill, projectile points/knives, red ochre, and a uniface. Site 15ME15 (Wheeler, Mercer Village) in Mercer County, KY was excavated in 2013 as part of a University of Kentucky field school by the Kentucky Archaeological Survey. A Fort Ancient determination for these human remains is based on the presence of diagnostic shell-tempered ceramics and triangular projectile points. No known hazardous substances are present.

A total of 99 cultural items have been requested for repatriation. The 99 unassociated funerary objects are shell beads, ceramics and pipe fragment. Site 15PI227 (Pauley Station) in Pike County, KY was surface collected and then donated to the University of Kentucky Museum of Archaeology by a private collector in 1959. A Fort Ancient determination for these human remains is based on the presence of shell-tempered ceramics and stone slab graves characteristic of Fort Ancient culture in Eastern Kentucky. No known hazardous substances are present.

Determinations

The WSWM has determined that:

• The 227 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Absentee-Shawnee Tribe of Indians of Oklahoma; Eastern Shawnee Tribe of Oklahoma; and the Shawnee Tribe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 6, 2025. If competing requests for repatriation are received, the WSWM must determine the most appropriate requestor prior to repatriation. Requests for joint repatriation of the cultural items are considered a single request and not competing requests. The WSWM is responsible for sending a copy of this notice to the Indian Tribes and Native Hawaiian organizations identified in this notice and to any other consulting parties.

Authority: Native American Graves Protection and Repatriation Act, 25 U.S.C. 3004 and the implementing regulations, 43 CFR 10.9.

Dated: November 22, 2024.
Melanie O'Brien,
Manager, National NAGPRA Program.

[FR Doc. 2024-28498 Filed 12-4-24; 8:45 am]

BILLING CODE 4312-52-P